DEPARTMENT OF ENERGY

Environmental Management Site-Specific Advisory Board, Idaho Cleanup Project

AGENCY: Office of Environmental Management, Department of Energy.

ACTION: Notice of open in-person/virtual hybrid meeting.

SUMMARY: This notice announces an in-person/virtual hybrid meeting of the Environmental Management Site-Specific Advisory Board (EM SSAB), Idaho Cleanup Project (ICP). The Federal Advisory Committee Act requires that public notice of this meeting be announced in the Federal Register.

DATES: Wednesday, June 15, 2022; 2:00 p.m.-5:30 p.m.

The opportunity for public comment is at 4:15 p.m. MT.

These times are subject to change; please contact the ICP Citizens Advisory Board (CAB) Administrator (below) for confirmation of times prior to the meeting.

ADDRESSES: This meeting will be open to the public in-person at the Residence Inn Idaho Falls (address below) or virtually via Zoom. To attend virtually, please contact Jordan Davies, ICP CAB Administrator, by email jdavies@northwindgrp.com or phone (720) 452-7379, no later than 5:00 p.m. MT on Tuesday, June 14, 2022.

Board members, Department of Energy (DOE) representatives, agency liaisons, and Board support staff will participate in-person, strictly following COVID-19 precautionary measures, at: Residence Inn Idaho Falls, 635 West Broadway, Idaho Falls, ID 83402.

FOR FURTHER INFORMATION CONTACT: Jordan Davies, ICP CAB Administrator, by phone (720) 452-7379 or email jdavies@northwindgrp.com or visit the Board's internet homepage at https://energy.gov/em/icpcab.

SUPPLEMENTARY INFORMATION: Purpose of the Board: The purpose of the Board is to make recommendations to DOE-EM and site management in the areas of environmental restoration, waste management, and related activities.

Tentative Agenda (agenda topics may change up to the day of the meeting; please contact Jordan Davies for the most current agenda):

1. Recent Public Outreach

2. Idaho Cleanup Project (ICP) Overview

3. Integrated Waste Treatment Unit (IWTU) Update

4. Recommendation Discussion Regarding ICP Accomplishments

Public Participation: The in-person/online virtual hybrid meeting is open to the public either in-person at the Residence Inn Idaho Falls or via Zoom. To sign-up for public comment, please contact the ICP CAB Administrator (above) no later than 5:00 p.m. MT on Tuesday, June 14, 2022. In addition to participation in the live public comment session identified above, written statements may be filed with the Board either five days before or five days after the meeting by sending them to the ICP CAB Administrator at the aforementioned email address. Written public comment received prior to the meeting will be read into the record. The Deputy Designated Federal Officer is empowered to conduct the meeting in a fashion that will facilitate the orderly conduct of business. Individuals wishing to make public comments will be provided a maximum of five minutes to present their comments.

Minutes: Minutes will be available by writing or calling Jordan Davies, ICP CAB Administrator, phone (720) 452-7379 or email jdavies@northwindgrp.com. Minutes will also be available at the following website: https://www.energy.gov/em/icpcab/listings/cab-meetings.

Signed in Washington, DC, on May 17, 2022.
LaTanya Butler,
Deputy Committee Management Officer.

[FR Doc. 2022-10977 Filed 5-20-22; 8:45 am]

BILLING CODE 6450-01-P